DEPARTMENT OF ENERGY

Federal Energy Regulatory Commission

[Project No. 15407-000]

Nightfall Renewables Inc.; Notice of Effectiveness of Withdrawal of Preliminary Permit Application

On June 24, 2025, Nightfall Renewables Inc. (Nightfall Renewables) filed a preliminary permit application for the Juniper Pumped Storage Project No. 15407 (Juniper Project). On November 17, 2025, Nightfall Renewables filed a notice of withdrawal of the preliminary permit application.

No motion in opposition to the notice of withdrawal has been filed, and the Commission has taken no action to disallow the withdrawal. Pursuant to Rule 216(b) of the Commission's Rules of Practice and Procedure,¹ the withdrawal of the application became effective on December 2, 2025, and this proceeding is hereby terminated.

¹ 18 CFR 385.216(b) (2025).

(Authority: 18 CFR 2.1)

Dated: January 5, 2026.
Carlos D. Clay,
Deputy Secretary.

[FR Doc. 2026-00139 Filed 1-7-26; 8:45 am]

BILLING CODE 6717-01-P